FEDERAL EMERGENCY MANAGEMENT AGENCY

44 CFR Part 65

Changes in Flood Elevation Determinations

AGENCY: Federal Emergency Management Agency, (FEMA).

ACTION: Final rule.

SUMMARY: Modified Base (1-percent-annual-chance) Flood Elevations (BFEs) are finalized for the communities listed below. These modified elevations will be used to calculate flood insurance premium rates for new buildings and their contents.

EFFECTIVE DATES: The effective dates for these modified BFEs are indicated on the table below and revise the Flood Insurance Rate Maps ((FIRMs) in effect for the listed communities prior to this date.

ADDRESSES: The modified BFEs for each community are available for inspection at the office of the Chief Executive Officer of each community. The respective addresses are listed in the table below.

FOR FURTHER INFORMATION CONTACT: Matthew B. Miller, P.E., Chief, Hazards Study Branch, Federal Insurance and Mitigation Administration, 500 C Street, SW., Washington, DC 20472, (202) 646-3461 or (e-mail) matt.miller@fema.gov.

SUPPLEMENTARY INFORMATION: FEMA makes the final determinations listed below of the final determinations of modified BFEs for each community listed. These modified elevations have been published in newspapers of local circulation and ninety (90) days have elapsed since that publication. The Acting Administrator, Federal Insurance and Mitigation Administration, has resolved any appeals resulting from this notification.

The modified BFEs are not listed for each community in this notice. However, this rule includes the address of the Chief Executive Officer of the community where the modified BFE determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4. National Environmental Policy Act. This rule is categorically excluded from the requirements of 44 CFR part 10, Environmental Consideration. No environmental impact assessment has been prepared.

Regulatory Flexibility Act. The Acting Administrator, Federal Insurance and Mitigation Administration, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community No.
Arkansas: Craighead (FEMA Docket No. 7608) | City of Jonesboro | September 4, 2001, September 11, 2001, The Jonesboro Sun | The Honorable Hubert Brodell, Mayor, City of Jonesboro, P.O. Box 1845, Jonesboro, Arkansas 72403-1845 | Aug. 15, 2001 | 050048
Arkansas: Pope (FEMA Docket No. 7606) | City of Russellville | August 21, 2001, August 28, 2001, The Courier | The Honorable Raye Turner, Mayor, City of Russellville, P.O. Box 428, Russellville, Arkansas 72801 | July 30, 2001 | 050178
Illinois:
Lake (FEMA Docket No. 7606) | Village of Lake Zurich | August 16, 2001, August 23, 2001, Lake Zurich Courier | The Honorable James Krischke, Mayor, Village of Lake Zurich, 70 East Main Street, Lake Zurich, Illinois 60047 | July 18, 2001 | 170376
Will (FEMA Docket No. 7606) | Unincorporated Areas | July 24, 2001, July 31, 2001, Chicago Sun-Times | Mr. Joseph L. Mikan, Will County Executive, 302 North Chicago Street, Joliet, Illinois 60432 | Oct. 30, 2001 | 170695
Indiana:
Howard (FEMA Docket No. 7608) | Unincorporated Areas | October 23, 2001, October 30, 2001, Kokomo Tribune | Mr. John Harbaugh, President, Howard County, Board of Commissioners, 230 North Main, Kokomo, Indiana 46901 | Oct. 12, 2001 | 180414
Howard (FEMA Docket No. 7608) | City of Kokomo | October 23, 2001, October 30, 2001, Kokomo Tribune | The Honorable James Trobaugh, Mayor, City of Kokomo, 100 South Union Street, Kokomo, Indiana 46901 | Oct. 12, 2001 | 180093
Iowa: Black Hawk (FEMA Docket No. 7606) | City of Cedar Falls | July 24, 2001, July 31, 2001, Waterloo Cedar Falls Courier | The Honorable Jon Crews, Mayor, City of Cedar Falls, 220 Clay Street, Cedar Falls, Iowa 50613 | June 22, 2001 | 190017
Minnesota: Winona (FEMA Docket No. 7608) | Unincorporated Areas | December 21, 2001, December 28, 2001, Winona Daily News | Mr. David Stoltman, Chairperson, Winona County, Board of Commissioners, 177 Main Street, Winona, Minnesota 55987 | Mar. 29, 2002 | 270525
Missouri:
St. Charles (FEMA Docket No. 7608) | City of Cottleville | October 5, 2001, October 12, 2001, St. Charles Journal | The Honorable Robert Powers, Mayor, City of Cottleville, P. O. Box 387, Cottleville, Missouri 63338 | Jan. 11, 2002 | 290898
St. Charles (FEMA Docket No. 7608) | Unincorporated Areas | October 5, 2001, October 12, 2001, St. Charles Journal | Mr. Joe Ortwerth, St. Charles County Executive, 201 North Second Street, St. Charles, Missouri 63301 | Jan. 11, 2002 | 290315
Marion (FEMA Docket No. 7606) | Unincorporated Areas | August 1, 2001, August 8, 2001, Palmyra Spectator | Mr. Lyndon, Presiding Commissioner, Marion County, 100 South Main Street, Palmyra, Missouri 63461 | July 9, 2001 | 290222
Ohio: Lorain (FEMA Docket No. 7608) | City of Avon Lake | October 24, 2001, October 31, 2001, The Morning Journal | The Honorable Robert Berner, Mayor, City of Avon Lake, 150 Avon Belden Road, Avon Lake, Ohio 44012-1699 | Jan. 30, 2002 | 390602
Oklahoma:
Tulsa (FEMA Docket No. 7608) | City of Broken Arrow | November 1, 2001, November 8, 2001, Broken Arrow Ledger | The Honorable Jim Reynolds, Mayor, City of Broken Arrow, 220 South First Street, Broken Arrow, Oklahoma 74012 | Feb. 7, 2002 | 400236
Tulsa (FEMA Docket No. 7608) | City of Broken Arrow | October 18, 2001, October 25, 2001, Broken Arrow Ledger | The Honorable Jim Reynolds, Mayor, City of Broken Arrow, P.O. Box 610, Broken Arrow, Oklahoma 74013 | Jan. 24, 2002 | 400236
Oklahoma (FEMA Docket No. 7608) | City of Edmond | November 1, 2001, November 8, 2001, The Edmond Sun | The Honorable Saundra Naifeh, Mayor, City of Edmond, 100 E. First, Edmond, Oklahoma 73034 | Oct. 15, 2001 | 400252
Oklahoma (FEMA Docket No. 7608) | City of Oklahoma City | December 5, 2001, December 12, 2001, The Daily Oklahoman | The Hon. Kirk Humphreys, Mayor, City of Oklahoma City, 200 North Walker, Suite 302, Oklahoma City, Oklahoma 73102 | Mar. 13, 2002 | 405378
Texas:
Comal (FEMA Docket No. 7608) | Unincorporated Areas | November 16, 2001, November 23, 2001, New Braunfels Herlad-Zeitung | The Honorable Danny Scheel, Judge, Comal County, 150 North Seguin Street, New Braunfels, Texas 78130 | Feb. 22, 2002 | 485463
Dallas and Ellis (FEMA Docket No. 7608) | City of Cedar Hill | October 19, 2001, October 26, 2001, Southwest Morning News. | The Hon. Robert L. Franke, Mayor, City of Cedar Hill, P.O. Box 96, Cedar Hill, Texas 75106 | Jan. 24, 2002 | 480168
Denton (FEMA Docket No. 7608) | City of Denton | November 14, 2001, November 21, 2001, Denton Record Chronicle | The Honorable Euline Brock, Mayor, City of Denton, 215 East McKinney Street, Denton, Texas 76201 | Feb. 20, 2002 | 480194
Collin (FEMA Docket No. 7608) | City of Frisco | December 12, 2001, December 19, 2001, Plano Star Courier | The Honorable Kathy Seei, Mayor, City of Frisco, 6891 Main Street, Frisco, Texas 75034 | Mar. 20, 2002 | 480134
Dallas (FEMA Docket No. 7608) | City of Garland | December 20, 2001, December 27, 2001, Garland Morning News | The Honorable Jim Spence, Mayor, City of Garland, P. O. Box 469002, Garland, Texas 75046-9002 | Nov. 9, 2001 | 485471
Dallas and Ellis (FEMA Docket No. 7608) | City of Grand Prairie | October 19, 2001, October 26, 2001, Arlington Morning News | The Hon. Charles England, Mayor, City of Grand Prairie, 317 College Street, P. O. Box 534045, Grand Prairie, Texas 75053 | Jan. 24, 2001 | 485472
Ellis, Tarrant and Dallas (FEMA Docket No. 7608) | City of Grand Prairie | November 14, 2001, November 21, 2001, Arlington Morning News | The Hon. Charles England, Mayor, City of Grand Prairie, 317 College Street, P. O. Box 534045, Grand Prairie, Texas 75053 | Oct. 17, 2001 | 485472
Tarrant (FEMA Docket No. 7606) | City of Haltom City | July 24, 2001, July 31, 2001, Fort Worth Star Telegram | Mr. Joel A. Guerrero, Floodplain Administrator, City of Haltom City, 5024 Broadway Avenue, Haltom City, Texas 76117 | Oct. 30, 2001 | 480599
Harris (FEMA Docket No. 7606) | Unincorporated Areas | August 16, 2001, August 23, 2001, Houston Chronicle | The Honorable Robert Eckels, Harris County Judge, 1001 Preston Street, Suite 911, Houston, Texas 77002 | Nov. 22, 2001 | 480287
Harris (FEMA Docket No. 7606) | Unincorporated Areas | August 21, 2001, August 28, 2001, Houston Chronicle | The Honorable Robert Eckels, Judge Harris County, 1001 Preston Street, Suite 911, Houston, Texas 77002 | Nov. 27, 2001 | 480287
Harris (FEMA Docket No. 7606) | City of Houston | August 21, 2001, August 28, 2001, Houston Chronicle | The Honorable Lee P. Brown, Mayor, City of Houston, P. O. Box 1562, Houston, Texas 77251-1562 | Nov. 27, 2001 | 480296
Dallas (FEMA Docket No. 7608) | City of Irving | December 20, 2001, December 27, 2001, The Irving Morning News | The Honorable Joe H. Putnam, Mayor, City of Irving, P. O. Box 152288, 825 West Irving Boulevard, Irving, Texas 75015-2288 | Mar. 28, 2002 | 480180
Galveston (FEMA Docket No. 7608) | City of League City | December 13, 2001, December 20, 2001, The Galveston County Daily News | The Hon. A. T. Frankovich, Mayor, City of League City, City Hall, Suite 216, 200 West Walker, League City, Texas 77573 | Mar. 21, 2002 | 485488
Ellis (FEMA Docket No. 7608) | City of Midlothian | November 8, 2001, November 15, 2001, The Midlothian Mirror | The Honorable Daid Setzer, Mayor, City of Midlothian, 104 West Avenue E, Midlothian, Texas 76065 | Feb. 14, 2002 | 480801
Tarrant (FEMA Docket No. 7606) | City of North Richland Hills | July 24, 2001, July 31, 2001, Fort Worth Star-Telegram | The Honorable Charles Scoma, Mayor, City of N. Richland Hills, P. O. Box 820609, North Richland Hils, Texas 76182 | Oct. 30, 2001 | 480607
Tarrant (FEMA Docket No. 7604) | City of North Richland Hills | June 22, 2001, June 29, 2001, Fort Worth Star-Telegram | The Honorable Charles Scoma, Mayor, City of N. Richland Hills, P. O. Box 820609, North Richland Hills, Texas 76182 | June 12, 2001 | 480607
Tarrant (FEMA Docket No. 7606) | City of North Richland Hills | August 23, 2001, August 30, 2001, Fort Worth Star-Telegram | The Honorable Charles Scoma, Mayor, City of N. Richland Hills, P.O. Box 820609, North Richland Hills, Texas 76182 | July 31, 2001 | 480607
Parker (FEMA Docket No. 7608) | Unincorporated Areas | September 12, 2001, September 19, 2001, Weatherford Democrat | The Honorable Mark Riley, Parker County Judge, 1 Court House Square Weatherford, Texas 76086 | Aug. 9, 2001 | 480520
Collin and Dallas (FEMA Docket No. 7608) | City of Richardson | November 20, 2001, November 27, 2001, Dallas Morning News | The Honorable Gary A. Slagel, Mayor, City of Richardson, P. O. Box 830309, Richardson, Texas 75083 | Feb. 26, 2002 | 480184
Tarrant (FEMA Docket No. 7606) | City of Richland Hills | July 24, 2001, July 31, 2001, Fort Worth Star-Telegram | Mr. John W. Cherry, P.E., Director, Department of Public Works, City of Richland Hills, 6700 Rena Drive, Richland Hills, Texas 76118 | Oct. 30, 2001 | 480608
Bexar (FEMA Docket No. 7608) | City of San Antonio | December 21, 2001, December 28, 2001, San Antonio Express-News | The Honorable Ed Garza, Mayor, City of San Antonio, P.O. Box 839966, San Antonio, Texas 78283 | March 29, 2002 | 480045
Tarrant (FEMA Docket No. 7606) | City of Southlake | August 3, 2001, August 10, 2001, Fort Worth Star-Telegram | The Honorable Rick Stacy, Mayor, City of Southlake, 1400 Main Street, Suite 270, Southlake, Texas 76092 | Nov. 9, 2001 | 480612
Harris (FEMA Docket No. 7606) | City of Tomball | July 25, 2001, August 1, 2001, Tomball Magnolia Tribune | The Hon. Hap Harrington, Mayor, City of Tomball, 401 West Market Street, Tomball, Texas 77375 | Oct. 31, 2001 | 480315

(Catalog of Federal Domestic Assistance No. 83.100, “Flood Insurance.”)
Dated: May 14, 2002.
Robert F. Shea,
Acting Administrator, Federal Insurance and Mitigation Administration.

[FR Doc. 02-12658 Filed 5-20-02; 8:45 am]

BILLING CODE 6718-04-P